DEPARTMENT OF THE INTERIOR

Bureau of Land Management

[LLWO320000 L13100000 DT0000 LXSIOSHL0000]

Notice of Availability of Approved Land Use Plan Amendments/Record of Decision for Allocation of Oil Shale and Tar Sands Resources on Lands Administered by the Bureau of Land Management in Colorado, Utah, and Wyoming and Final Programmatic Environmental Impact Statement

AGENCY: Bureau of Land Management, Interior.

ACTION: Notice of availability.

SUMMARY: In accordance with the National Environmental Policy Act of 1969, as amended, and the Federal Land Policy and Management Act of 1976, as amended, the Bureau of Land Management (BLM) announces the availability of the Approved Land Use Plan Amendments/Record of Decision (ROD) for Allocation of Oil Shale and Tar Sands Resources on Lands Administered by the BLM in Colorado, Utah, and Wyoming. The BLM Principal Deputy Director signed the ROD on March 22, 2013, which constitutes the final decision of the BLM and makes the Approved Plan Amendments effective immediately.

ADDRESSES: The ROD/Approved Plan Amendments document is available now electronically on the following Web site: http://ostseis.anl.gov. Copies of the ROD/Approved Plan Amendments will be available after April 1, 2013, upon request from the BLM Office locations listed below. Copies of the ROD will be available after April 1, 2013, for public inspection at the same BLM Office locations:

Colorado State Office, 2850 Youngfield Street, Lakewood, CO 80215.

Northwest District Office, 2815 H Road, Grand Junction, CO 81506.

White River Field Office, 220 East Market Street, Meeker, CO 81641.

Colorado River Valley Field Office, 2300 River Frontage Road, Silt, CO 81652.

Utah State Office, 440 West 200 South, Suite 500, Salt Lake City, UT 84101.

Green River District Office, 170 South 500 East, Vernal, UT 84078.

Price Field Office, 125 South 600 West, Price, UT 84501.

Color Country District Office, 176 East D.L. Sargent Drive, Cedar City, UT 84721.

Richfield Field Office, 150 East 900 North, Richfield, UT 84701.

Canyon Country District Office, 82 East Dogwood, Moab, UT 84532.

Monticello Field Office, 365 North Main, Monticello, UT 84535.

Wyoming State Office, 5353 Yellowstone Road, Cheyenne, WY 82009.

High Desert District Office, 280 Highway 191 North, Rock Springs, WY 82901.

Kemmerer Field Office, 312 Highway 189 North, Kemmerer, WY 83101.

Rawlins Field Office, 1300 North Third, Rawlins, WY 82301.

FOR FURTHER INFORMATION CONTACT: Sherri Thompson, BLM Project Manager, at 303-239-3758, (sthompso@blm.gov), Bureau of Land Management, 2850 Youngfield Street, Lakewood, CO 80215 or Mitchell Leverette, BLM Division Chief, Solid Minerals, at 202-912-7113, (mleveret@blm.gov), Bureau of Land Management, 20 M Street SE., Washington, DC 20003. Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: The decision in the ROD selects a modified version of Alternative 2(b), the proposed plan in the Final Oil Shale and Tar Sands Programmatic Environmental Impact Statement (EIS), as the Approved Land Use Plan Amendments, which would amend 10 land use plans in Colorado, Utah, and Wyoming to make approximately 679,000 acres of lands containing oil shale resources open for application for future leasing and development and approximately 132,000 acres open for application for future leasing and development of tar sands.

The Environmental Protection Agency published a Notice of Availability for the Final Programmatic EIS in the Federal Register on November 9, 2012 (77 FR 67362), initiating the BLM's 30-day protest period on the Proposed Plan Amendments for oil shale and tar sands allocation. The protest period closed on December 10, 2012. Eighteen protests were received; protests came from local governments, the State of Utah, industry, industry interest groups, environmental groups, and an individual. The BLM has resolved all valid protest issues.

The BLM has made minor modifications and editorial clarifications to the Approved Plan Amendments. These modifications provided further clarification of some of the decisions.

Authority: 40 CFR 1506.6.

Michael D. Nedd,
Assistant Director, Minerals and Realty Management.

[FR Doc. 2013-07452 Filed 3-29-13; 8:45 am]

BILLING CODE 4210-84-P